DEPARTMENT OF THE INTERIOR

Fish and Wildlife Service

Draft Post-Delisting Monitoring Plan for Eggert's Sunflower (Helianthus eggertii)

AGENCY: Fish and Wildlife Service, Interior.

ACTION: Notice.

SUMMARY: The U.S. Fish and Wildlife Service (we) announces the availability of the Draft Post-delisting Monitoring Plan for Eggert's Sunflower (Helianthus eggertii) (PDM). We propose to monitor the status of Eggert's sunflower over a 5-year period, from the date of final delisting under the Endangered Species Act (Act) in 2005 through 2010. Monitoring will be through (1) annual evaluation of information already routinely being collected by 7 agencies that have entered into long-term management agreements with us covering 27 populations of H. eggertii, and (2) a total census of these populations during the 2nd and 5th year of the monitoring period. We solicit review and comment on this Monitoring Plan from local, State and Federal agencies, and the public.

DATES: We will accept and consider all public comments received on or before September 19, 2005.

ADDRESSES: If you wish to comment on this proposed PDM, you may submit your comments by any one of several methods:

1. You may submit written comments and information to the Field Supervisor, U.S. Fish and Wildlife Service, 446 Neal Street, Cookeville, TN 38501.

2. You may hand-deliver written comments to our Tennessee Field Office at the above address or fax your comments to 931/528-7075.

Comments and materials received, as well as supporting documentation used in preparation of this draft PDM, are available for public inspection, by appointment, during normal business hours at the Tennessee Field Office at the above address.

FOR FURTHER INFORMATION CONTACT: Timothy Merritt at the above address (telephone 931/528-6481, extension 211).

SUPPLEMENTARY INFORMATION:

Public Comments Solicited

We intend that the final PDM for H. eggertii will be accurate and effective in helping us assess whether removal of the protections of the Act leads to a deterioration of the status, and potential need for emergency relisting, of H. eggertii. Therefore, we solicit comments or suggestions from the public, other concerned governmental agencies, the scientific community, industry, or any other interested parties concerning this proposed PDM.

Comments may be submitted as indicated under ADDRESSES. Our practice is to make comments, including names and home addresses of respondents, available for public review during regular business hours. A respondent may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses available for public inspection in their entirety.

In making a final decision on the PDM, we will take into consideration the comments and any additional information we receive. Comments and materials received, as well as supporting information used to write the PDM, will be available for public inspection, by appointment, during normal business hours at the address indicated in the ADDRESSES section.

Background

The 1988 amendments to the Act require us to implement a system, in cooperation with the States, to monitor all species that have been delisted, or removed from the list of endangered and threatened species listed under the Act, due to recovery efforts for at least 5 years following delisting (section 4(g)(1)). The purpose of this PDM is to verify that a species that is delisted, due to recovery, remains secure from risk of extinction after it no longer has the protections of the Act. If the species does not remain secure, we can use the emergency listing authorities under section 4(b)(7) of the Act. Section 4(g) of the Act explicitly requires cooperation with the States in development and implementation of PDM programs. However, we are responsible for compliance with section 4(g) and must remain actively engaged in all phases of the PDM.

By a separate rulemaking being published elsewhere in today's issue of the Federal Register, the Service is delisting Eggert's sunflower, a perennial herb found in Alabama, Kentucky, and Tennessee, due to recovery and new information. The Service has drafted a PDM for Eggert's sunflower and, by this Notice of Availability, we are making it available for review. Following the end of the comment period, any comments will be incorporated as appropriate into the final PDM.

There are currently 7 populations of Eggert's sunflower in Alabama, 18 populations in Kentucky, and 48 populations in Tennessee, for a total of 73, that have more than 100 flower stems. This encompasses a total of 287 currently known sites, far exceeding the 34 known at the time of the species' listing, and we continue to find more sites. As defined by the recovery plan for this plant, only 20 populations are required for this plant to be considered for delisting.

The Federal, State, and private conservation group landowners involved in recovery activities for this species (see the final delisting rule for H. eggertii elsewhere in this issue of the Federal Register) are already monitoring the status of this species, either through existing agreements or voluntarily. Kentucky Transportation Cabinet (KTC), The Nature Conservancy (TNC), and Mammoth Cave National Park (MCNP) have signed management agreements with us, covering 5 populations in Kentucky, to protect this species and monitor its status for a period of 7 years for KTC and 10 years for TNC and MCNP. We also have Cooperative Management Agreements with the Tennessee Wildlife Resources Agency (TWRA), A.G. Beaman Park (AGBP), and Arnold Air Force Base (AAFB) covering 21 populations in Tennessee, bringing the total number of populations managed under long-term conservation agreements to 27, considerably more than the 20 populations required for recovery in the H. eggertii recovery plan. These landowners will protect these populations and monitor their status for a period of 10 years. We will seek active participation of all the entities that signed Cooperative Management Agreements to assist us with the post-delisting responsibilities for H. eggertii.

Given the protection afforded by landowners, the current range of this sunflower, and the number of newly discovered populations, we believe what is needed for recovery of this plant has been achieved and that the landowners involved will continue to assist us and likely extend their management agreements to protect this plant past 7 to 10 years.

Our Tennessee Field Office will coordinate with AAFB, TWRA, AGBP, MCNP, KTC, TNC, and State resource agencies to implement an effective 5-year monitoring program to track the population status of H. eggertii. We will annually evaluate the effectiveness of the Cooperative Management Agreements in protecting H. eggertii populations. To detect any changes in the status of H. eggertii, we will use, to the fullest extent possible, information routinely collected by these agencies on a yearly basis. In addition, we will ensure that a total population census that includes both flowering stems and total stems will be conducted during the second and fifth years of the monitoring period for the 27 populations that are protected on public lands. Based on the recovery criteria of needing 20 geographically distinct, self-sustaining populations that are secure and have stable or increasing populations for 5 years, we believe that monitoring the 27 populations that occur on public lands is sufficient to determine if threats have been reduced or removed to a point at which listing under the Act is no longer required.

Monitoring for H. eggertii should ideally be performed between August 15 and September 15, although the season may begin as early as August 1 and end as late as October 15 depending on environmental conditions (e.g., amount of rain during the growing season, etc.). The following protocol will be used to monitor the 27 populations that are protected on public lands.

(1) Find the monitoring location using a combination of directions and a GPS unit.

(2) Evaluate the location for the presence/absence of Eggert's sunflower.

(3) Count to determine if there are ±100 flowering stems.

(4) Count the total stems.

(5) Search for evidence of any recruitment or juvenile plants and note the relative abundance.

(6) Take a GPS reading at the center of each colony and estimate its width and length.

(7) Draw the general shape of the colony and other land features.

(8) Take digital pictures of the colony from a single point such as one corner looking across the colony.

(9) Perform a visual threats assessment of each occurrence using the five following criteria: Invasive pest plants, habitat modification, succession of woody species, disease, and herbivory/insect damage. Assign ranks for each threat on the following scale: 1 = no current threat, 2 = low current threat, 3 = moderate threat, 4 = high threat, 5 = extreme immediate threat. A rank of “1” indicates that the particular threat poses no impact at the time of observation (e.g., there are no invasive pest plants present in the area). A low threat rank (2) would indicate that the site may be impacted in the future, but is not presently (e.g., occasional stems of an invasive pest plant are present). A moderate threat rank (3) would indicate that the threat is established at the occurrence, but does not appear to be negatively impacting the occurrence at the time of observation. A high threat rank (4) should be given when the threat is established at the site and appears to be negatively impacting the occurrence. The extreme rank (5) would be given when the threat is immediate and likely to severely negatively impact the occurrence within the present or next year's growing season.

(10) Make qualitative notes on the general habitat conditions and any land management. Describe the status of the occurrence in general.

If we determine at the end of the 5-year post-delisting monitoring period that “recovered” status is still appropriate and factors that led to the listing of H. eggertii, or any new factors, remain sufficiently reduced or eliminated, monitoring may be reduced or terminated. If data show that the species is declining or if one or more factors that have the potential to cause a decline are identified, we will continue monitoring beyond the 5-year period and may modify the PDM based on an evaluation of the results of the initial PDM, or reinitiate listing if necessary.

Paperwork Reduction Act of 1995 (44 U.S.C. 3501 et seq.)

Office of Management and Budget (OMB) regulations at 5 CFR 1320 implement provisions of the Paperwork Reduction Act (44 U.S.C. 3501 et seq.). The OMB regulations at 5 CFR 1320.3 (c) define a “collection of information” as the obtaining of information by or for an agency by means of identical questions posed to, or identical reporting, recordkeeping, or disclosure requirements imposed on, 10 or more persons. Furthermore, 5 CFR 1320.3 (c)(4) specifies that “10 or more persons” refers to the persons to whom a collection of information is addressed by the agency within any 12-month period. For purposes of this definition, employees of the Federal Government are not included. A Federal agency may not conduct or sponsor and a person is not required to respond to a collection of information unless it displays a currently valid OMB control number. The proposed PDM for Eggert's sunflower requests that cooperating land owners/managers annually provide the Service with population information they routinely collect. These information requirements do not, however, require OMB approval under the Paperwork Reduction Act, because there are fewer than 10 non-Federal respondents.

Author

The primary author of this proposed rule is Timothy Merritt (see ADDRESSES section).

Authority

The authority for this action is the Endangered Species Act of 1973 (16 U.S.C. 1531 et seq.).

Dated: July 5, 2005.
Cynthia K. Dohner,
Acting Regional Director.

[FR Doc. 05-16275 Filed 8-17-05; 8:45 am]

BILLING CODE 4310-55-P